DEPARTMENT OF TRANSPORTATION

Coast Guard

Maritime Administration

[USCG-2003-14294]

El Paso Energy Bridge Gulf of Mexico, LLC Deepwater Port License Application

AGENCY: Coast Guard, DOT. Maritime Administration, DOT.

ACTION: Notice of application.

SUMMARY: The Coast Guard and the Maritime Administration (MARAD) give notice, as required by the Deepwater Port Act of 1974, as amended, that they have received an application for the licensing of a deepwater port, and that the application appears to contain the required information. The notice summarizes the applicant's plans and the procedures we will follow in considering the application.

DATES: Any public hearing held in connection with this application must be held not later than September 22, 2003. The application will be approved or denied within 90 days after the last public hearing held on the application.

ADDRESSES: The mailing address for the clerk in this proceeding is: Commandant (G-M), U.S. Coast Guard, 2100 Second Street SW., Washington, DC 20593-0001. Public docket USCG-2003-14294 is maintained by the Docket Management Facility, U.S. Department of Transportation, Room PL-401, 400 Seventh Street SW., Washington, DC 20590-0001. The Docket Management Facility office maintains a Web site, http://dms.dot.gov, and can be reached by telephone at 202-366-9329 or fax at 202-493-2251.

Anyone is able to search the electronic form of all comments received into any of our dockets by the name of the individual submitting the comment (or signing the comment, if submitted on behalf of an association, business, labor union, etc.). You may review the Department of Transportation's complete Privacy Act Statement in the Federal Register published on April 11, 2000, (Volume 65, Number 70; Pages 19477-78) or you may visit http://dms.dot.gov.

FOR FURTHER INFORMATION CONTACT: If you have questions on this notice call Robert Nelson, U.S. Coast Guard, (202) 267-0496, rnelson@comdt.uscg.mil.

SUPPLEMENTARY INFORMATION: Receipt of application; determination. On December 20, 2002, the Coast Guard and MARAD received an application from El Paso Energy Bridge Gulf of Mexico LLC, 1001 Louisiana Street, Houston, Texas 77002 for all Federal authorizations required for a license to own, construct and operate a deepwater port off the coast of Louisiana. On January 14, 2003, we determined that the application appears to contain all required information. The application and related documentation supplied by the applicant (except for certain protected information specified in 33 U.S.C. 1513) may be viewed in the public docket (see ADDRESSES).

Background. According to the Deepwater Port Act of 1974, as amended (the Act, 33 U.S.C. 1501 et seq.), a deepwater port is a fixed or floating manmade structure other than a vessel, or a group of structures, located beyond the territorial sea and off the coast of the U.S., used or intended for use as a port or terminal for the transportation, storage, and further handling of oil for transportation to any State. The Act was most recently amended by the Maritime Transportation Security Act of 2002 (MTSA, Pub. L. 107-295), which extends the deepwater port definition to include natural gas facilities.

A deepwater port must be licensed, and the Act provides that a license applicant submit detailed plans for its facility to the Secretary of Transportation, along with its application. The Secretary has delegated the processing of deepwater port applications to the Coast Guard and MARAD. The Act allows 21 days following receipt of the application to determine if it contains all required information. If it does, we must publish a notice of application in the Federal Register and summarize the plans. This notice is intended to meet those requirements of the Act and to provide general information about the procedure that will be followed in considering the application.

Application procedure. We consider the application on its merits. Under the Act, we have 240 days from the date this notice is published to hold at least one public hearing, which is your opportunity to submit written or oral comment on the application. We will publish a separate Federal Register notice to notify you of any hearing we decide to hold. At least one hearing must be held in each adjacent coastal state. Pursuant to 33 U.S.C. 1508, we designate Louisiana as an adjacent coastal state. Other states may apply for adjacent coastal state status in accordance with 33 U.S.C. 1508(a)(2). After the last public hearing, Federal agencies have 45 days in which to comment to us on the application, and approval or denial of the application must follow within 90 days after the last public hearing. Details of the application process are described in 33 U.S.C. 1504 and in 33 CFR part 148.

The present application involves a proposed liquefied natural gas (LNG) facility. As such, MTSA excepts the application from the restrictions of 33 U.S.C. 1504(d)(1)-(3) and 33 U.S.C. 1504(i)(1)-(3). While this permits submission and consideration of competing applications for the same “application area”, there may still be practical restrictions from a navigation safety standpoint with regard to the proximity of multiple deepwater ports.

We will review the application under the current deepwater port regulations published in 33 CFR part 148. On May 30, 2002 (67 FR 37920) the Coast Guard published a Notice of Proposed Rulemaking (NPRM) indicating its intent to revise those regulations. Public comments have been received in response to the NPRM and we will consider those comments prior to adopting revised regulations. In addition, MTSA mandates that we revise existing deepwater port regulations as soon as practicable to implement extension of deepwater port regulations to natural gas. It also allows for the issuance of an interim final rule without public notice and comment. Thus, the current regulations may be amended before we have fully processed the application. In that event, the amended regulations will govern further processing of the application as soon as they take effect.

Summary of the application. El Paso Energy Bridge Gulf of Mexico, LLC (Energy Bridge GOM) proposes to locate, construct and operate the Deepwater Port on Block 603, West Cameron Area, South Addition, which has been leased from the Minerals Management Service (MMS) for this project.

The Deepwater Port will consist of a Submerged Turret Loading (STL) system that is comprised of a submerged turret buoy; chains, lines and anchors; a flexible riser; and a subsea manifold. Other components of the Deepwater Port will include approximately 1.93 miles of 20-inch pipeline; a small meter platform and risers; a 20-inch diameter pipeline approximately 3.96 miles in length that will extend from the meter platform to Sea Robin Pipeline Company (Sea Robin), an offshore natural gas pipeline subject to the Federal Energy Regulatory Commission's (FERC) Natural Gas Act (NGA) jurisdiction; and a separate 20-inch diameter pipeline approximately 1.38 miles in length that will extend from the meter platform to a section of pipe that will interconnect to an offshore natural gas pipeline system commonly referred to as the Blue Water system. This system is owned in part by Tennessee Gas Pipeline Company and in part by Columbia Gulf Transmission Company, another interstate pipeline subject to the FERC's NGA jurisdiction. The natural gas transported by Sea Robin and Blue Water will come ashore at the Louisiana coast.

The Deepwater Port will be used to deliver to onshore markets natural gas derived from the regasified LNG that will be received from sources worldwide. The gas to be transported through the Deepwater Port will be owned by Deepwater Energy L.P., (Deepwater Energy) an affiliate of Energy Bridge GOM. Deepwater Energy will utilize the entire capacity of the Deepwater Port.

Gas will be delivered to the Deepwater Port by conventional LNG vessels, which incorporate shipboard regasification capabilities. The vessels will operate in foreign commerce and be leased to affiliates of Energy Bridge GOM. The vessels that will be used to deliver natural gas to the Deepwater Port will have a capacity to hold 138,000 cubic meters of LNG and will regasify the LNG onboard at the point of delivery to the Deepwater Port so that imports will consist of gas in its vaporous state, rather than in a liquefied state. Each 138,000 cubic meter LNG vessel will deliver approximately 2.9 billion cubic feet (BCF) of natural gas through the Deepwater Port. The first El Paso Energy Bridge vessel (EPEBV) will be available to commence service by November of 2004. Each vessel will have fully-integrated regasification facilities on-board, using the same type of proven regasification technology that is used in land-based regasification terminals. Each EPEBV will also have the alternate capability to deliver LNG to conventional onshore regasification terminals in the same manner as existing LNG vessels.

When an EPEBV reaches the location of the Deepwater Port, it will retrieve and connect to the STL system. For that purpose, a winch located on the vessel will raise the submerged buoy from its subsurface location, where it is located when not connected to an EPEBV. The buoy will be drawn into an opening in the hull of the vessel. After it is secured to the EPEBV, the buoy will serve both as the mooring system for the vessel and as the offloading mechanism for transferring the natural gas. After the buoy is attached to the vessel and all start-up prerequisites are satisfied, the on-board LNG regasification process will commence. The gas is then discharged through the buoy into the subsea flexible riser. The gas will move from the riser to a pipeline and manifold (PLEM) after which the gas will be delivered into a twenty-inch diameter pipeline to be constructed by Energy Bridge GOM. The gas will travel for approximately 1.93 miles through the pipeline. At the end of that pipeline, the gas will be delivered to a small metering platform, constructed by Energy Bridge GOM, where the gas will flow through one of two gas measurement meters, one measuring gas destined for the Sea Robin system and a second measuring gas to be delivered to the Blue Water system. After metering, the gas pressure will be reduced by regulators on the platform so that the gas can enter either the Sea Robin or Blue Water system at the pressure prescribed by the operators for each of those systems. Natural gas delivered to the Sea Robin system will be transported through a 3.96 mile pipeline, while natural gas delivered to the Blue Water system will be transported through a 1.38 mile pipeline. The pipeline extending to the Sea Robin system will cross portions of West Cameron Blocks 602 and 601 and will interconnect with Sea Robin on East Cameron Block 335. The second pipeline from the platform will cross a portion of West Cameron Block 600 and will interconnect with the Blue Water system on West Cameron Block 601.

Dated: January 15, 2003.
L.L. Hereth,
Rear Admiral, Coast Guard, Acting Assistant Commandant for Marine Safety, Security and Environmental Protection.
Raymond R. Barberesi,
Director, Office of Ports and Domestic Shipping, U.S. Maritime Administration.

[FR Doc. 03-1486 Filed 1-22-03; 8:45 am]

BILLING CODE 4910-15-P